DEPARTMENT OF COMMERCE

Economic Development Administration

Agency Information Collection Activities; Submission to the Office of Management and Budget (OMB) for Review and Approval; Comment Request; Recompete Pilot Program Implementation Data Collection Instrument

AGENCY: Economic Development Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 13, 2025.

ADDRESSES: Interested persons are invited to submit written comments via email to Sathiyan Sivakumaran, Program Manager and Analyst, U.S. Department of Commerce, at ssivakumaran@doc.gov or PRAcomments@doc.gov. Do not submit Confidential Business Information or otherwise sensitive or protected information.

FOR FURTHER INFORMATION CONTACT: Requests for additional information or specific questions related to collection activities should be directed to Sathiyan Sivakumaran, Program Manager and Analyst, U.S. Department of Commerce, 1401 Constitution Avenue NW, Washington, DC 20230 at ssivakumaran@doc.gov or 202.738.0420.

SUPPLEMENTARY INFORMATION:

I. Abstract

The Economic Development Administration (EDA) leads the Federal economic development agenda by promoting innovation and competitiveness and preparing American regions for growth and success in the worldwide economy. Guided by the basic principle that sustainable economic development should be driven locally, EDA works directly with communities and regions to help them build the capacity for economic development based on local business conditions and needs. Section 29 of the Stevenson-Wydler Technology Innovation Act of 1980 (Distressed Area Recompete Pilot Program (15 U.S.C. 3722b) is the legal authority under which EDA awards financial assistance and designee status under the Fiscal Year (FY) 23 Distressed Area Recompete Pilot Program (“Recompete”). Under Recompete, EDA seeks to address deep economic distress across the U.S. through place-based investments in communities where the prime-age (25-54 years old) employment rate significantly trails the national average. Recompete is a two-phase program. In Phase 1, EDA funded 24 strategy development grants, which were approximately $500,000 each. Additionally, 22 communities were selected as Recompete Finalists, signifying their eligibility to apply for implementation funding in Phase 2 of the competition. In Phase 2, EDA selected 6 of the 22 Finalists (“Recompete Awardees”) to receive implementation funding which ranged from $20 million-$40 million per community. Further information on Recompete can be found at www.eda.gov.

The purpose of this notice is to seek comments from the public and other Federal agencies on a request for a new information collection for six Phase 2 Awardees to help ensure that Recompete investments are evidence-based, data-driven, and accountable to participants and the public.

Lead coalition members of the six Recompete Awardees will submit identified program metrics and qualitative information to help assess specific program objectives. A recurring questionnaire will be sent to each of the Recompete coalition leads every six months for a total of five years to gather the relevant data and stories from each of six Recompete Awardees, resulting in community impact evaluation, resources, and tools for place-based economic development decisionmakers. The six Recompete Awardees will provide information on the following areas related to Recompete objectives:

(1) Employment among prime-age individuals who interact with Recompete programming, which may include information on success stories, employment, and wage outcomes for participants in EDA-funded activities.

(2) Economic distress in Recompete service areas, which may include information on success stories, changes in local employment rates, changes in local income and wage rates, and other place-based metrics.

(3) Effectiveness of workforce development programming, which may include information on enrollment, completion, placement, retention, and attrition for individuals participating in EDA-funded activities, in addition to the examples of outcomes metrics in objective #1.

(4) Effectiveness of entrepreneurship and small business supports, which may include information on enrollment, completion, business launch, and business success for entrepreneurs and small/mid-size enterprises participating in EDA-funded activities, as well as their impact on local employment.

(5) Local economic development capacity, which may include assessing relationships with Federal, State, and local entities, current partnerships, and information about sources of capital and commitments to continue to ensure economic well-being in the Recompete community.

Recompete Awardees must submit data on a semi-annual basis (i.e., every six months) for five years to provide an update on the status of the coalition's efforts and to help assess the results of receiving Phase 2 Recompete funding.

EDA is particularly interested in public comment on how the proposed data collection will support the assessment of job quality, including in ways that rely on pairing this information with administrative data for analysis and other ways to minimize burden, or if alternative information should be considered.

II. Method of Collection

Data will be collected electronically.

III. Data

OMB Control Number: This is a new information collection.

Form Number(s): None.

Type of Review: Regular submission.

Affected Public: Phase 2 Recompete Awardees, which may include: A unit of local government; the District of Columbia; a territory of the United States; a Tribal government; political subdivision of a State or other entity, including a special-purpose entity engaged in economic development activities; a public entity or nonprofit organization, acting in cooperation with the officials of a political subdivision of a State or other entity; an economic development district (as defined in section 3122 of title 42); and a consortium of any of the specified entities described in this paragraph which serve or are contained within the same eligible area.

Preliminary Estimated Number of Respondents: Six teams comprised of 13 unique entities, responding every six months for five years.

Estimated Time per Response: 4 hours.

Estimated Total Annual Burden Hours: 104 hours.

Estimated Total Annual Cost to Public: $6,452.16 (cost assumes application of U.S. Bureau of Labor Statistics second quarter 2022 mean hourly employer costs for employee compensation for professional and related occupations of $62.04).

Respondent's Obligation: Mandatory for Recompete Awardees.

Legal Authority: Stevenson Wydler Technology Innovation Act of 1980, section 29 (15 U.S.C. 3722b).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary of Economic Affairs, Commerce Department.

[FR Doc. 2024-26365 Filed 11-13-24; 8:45 am]

BILLING CODE 3510-34-P